DEPARTMENT OF ENERGY

Federal Energy Regulatory Commission

[Project No. 5867-054]

Alice Falls Hydro, LLC; Notice of Application Ready for Environmental Analysis and Soliciting Comments, Recommendations, Terms and Conditions, and Prescriptions

Take notice that the following hydroelectric application has been filed with the Commission and is available for public inspection.

a. Type of Application: New Major License.

b. Project No.: 5867-054.

c. Date filed: September 29, 2021.

d. Applicant: Alice Falls Hydro, LLC (Alice Falls Hydro).

e. Name of Project: Alice Falls Hydroelectric Project.

f. Location: The existing project is located on the Ausable River in the Town of Chesterfield, Clinton and Essex counties, New York. The project does not occupy federal land.

g. Filed Pursuant to: Federal Power Act 16 U.S.C. 791 (a)-825(r).

h. Applicant Contact: Jody Smet, Vice President, Regulatory Affairs, Eagle Creek Renewable Energy, LLC, 7315 Wisconsin Avenue, Suite 1100W, Bethesda, Maryland 20814; (804) 739-0654 or jody.smet@eaglecreekre.com.

i. FERC Contact: Chris Millard at (202) 502-8256, or email at christopher.millard@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.asp. Commenters can submit brief comments up to 6,000 characters, without prior registration, using the eComment system at https://ferconline.ferc.gov/QuickComment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Alice Falls Hydroelectric Project P-5867-054.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. The project consists of: (1) a stone masonry dam, 88 feet long and 63 feet high; (2) a 110-foot-long section of rock ledge adjacent to the dam with 2.5-foot-high pipe-supported flashboards; (3) a reservoir with a surface area of 4.8 acres at the normal water surface elevation of 350 feet; ¹ (4) a 110-foot-wide, 150-foot-long intake structure with a 41-foot-wide by 14-foot-high trash rack opening and fitted with a trash rack with 1-inch clear bar spacing; (5) a divided, 45-foot-long, reinforced concrete penstock, where the Unit 1 penstock is 18 feet wide by 12 feet high and the Unit 2 penstock is 10 feet wide by 12 feet high; (6) a powerhouse, approximately 34 feet wide and 26 feet long, containing two turbine-generator units of 1.5 megawatts (Unit 1) and 0.6 megawatt (Unit 2); (7) a substation, 51 feet wide and 88 feet long; (8) a 745-foot-long, 5-kilovolt (kV) buried generator lead and a 700-foot-long, 46-kV buried transmission line; and (9) appurtenant facilities.

¹ Elevation data are presented using the National Geodetic Vertical Datum of 1929.

Alice Falls Hydro currently operates the project in a run-of-river mode and releases a year-round minimum flow over the spillway of 25 cubic feet per second (cfs) for the protection of aquatic resources and a 125-cfs minimum flow from May 20 to September 8 for the enhancement of aesthetic resources. A 20-cfs conveyance flow is released through the fish bypass facility from April 1 through November 30.

Alice Falls Hydro proposes to continue to operate the project in a run-of-river mode and provide a year-round, continuous minimum flow of 25 cfs; however, it would discontinue providing a 125-cfs aesthetic flow. Alice Falls Hydro would also shorten the duration of the operation of the fish bypass facility and temporarily increase conveyance flows, providing 42 cfs, or inflow, whichever is less, from April 15 through May 31 and 20 cfs or inflow, whichever is less, from June 1 through November 15.

m. A copy of the application can be viewed on the Commission's website at http://www.ferc.gov using the “eLibrary” link. Enter the docket number excluding the last three digits in the docket number field to access the document. For assistance, contact FERC Online Support. At this time, the Commission has suspended access to the Commission's Public Reference Room, due to the proclamation declaring a National Emergency concerning the Novel Coronavirus Disease (COVID-19), issued by the President on March 13, 2020. For assistance, contact FERC at FERCOnline Support@ferc.gov or call toll-free, (886) 208-3676 or TTY, (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Milestone | Target date
Filing of Comments, Recommendations, Terms and Conditions, and Fishway Prescriptions | April 2023.
Filing of Reply Comments | June 2023.

Dated: February 16, 2023.
Kimberly D. Bose,
Secretary.

[FR Doc. 2023-03722 Filed 2-22-23; 8:45 am]

BILLING CODE 6717-01-P